DEPARTMENT OF THE INTERIOR

National Park Service

[NPS-WASO-NAGPRA-NPS0030072; PPWOCRADN0-PCU00RP14.R50000]

Notice of Inventory Completion: Tennessee Valley Authority, Knoxville, TN

AGENCY: National Park Service, Interior.

ACTION: Notice.

SUMMARY: The Tennessee Valley Authority (TVA) has completed an inventory of human remains and associated funerary objects in consultation with the appropriate Federally-recognized Indian Tribes, and has determined that there is no cultural affiliation between the human remains and associated funerary objects and any present-day Federally-recognized Indian Tribes. Representatives of any Federally-recognized Indian Tribe not identified in this notice that wish to request transfer of control of these human remains and associated funerary objects should submit a written request to the TVA. If no additional requestors come forward, transfer of control of the human remains and associated funerary objects to the Federally-recognized Indian Tribe stated in this notice may proceed.

DATES: Representatives of any Federally-recognized Indian Tribe not identified in this notice that wish to request transfer of control of these human remains and associated funerary objects should submit a written request with information in support of the request to the TVA at the address in this notice by May 21, 2020.

ADDRESSES: Dr. Thomas O. Maher, Tennessee Valley Authority, 400 West Summit Hill Drive, WT11C, Knoxville, TN 37902-1401, telephone (865) 632-7458, email tomaher@tva.gov.

SUPPLEMENTARY INFORMATION: Notice is here given in accordance with the Native American Graves Protection and Repatriation Act (NAGPRA), 25 U.S.C. 3003, of the completion of an inventory of human remains and associated funerary objects under the control of the Tennessee Valley Authority, Knoxville, TN, and stored at the McClung Museum of Natural History and Culture (MM) at the University of Tennessee, Knoxville, TN. The human remains and associated funerary objects were excavated from 40BN25, the Ledbetter Landing archeological site in Benton County, TN.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains and associated funerary objects was made by TVA professional staff in consultation with representatives of the Cherokee Nation; Coushatta Tribe of Louisiana; Eastern Band of Cherokee Indians; The Chickasaw Nation; The Muscogee (Creek) Nation; The Osage Nation (previously listed as Osage Tribe); The Seminole Nation of Oklahoma; Thlopthlocco Tribal Town; and the United Keetoowah Band of Cherokee Indians in Oklahoma (hereafter referred to as “The Consulted Tribes”).

History and Description of the Remains

Site 40BN25 was excavated as part of TVA's Kentucky reservoir project by the University of Tennessee, using labor and funds provided by the Works Progress Administration. Details regarding these excavations have not been published. A field report by George Lindberg regarding this site can be found at the MM and TVA. The human remains and associated funerary objects listed in this notice have been in the physical custody of the University of Tennessee since excavation, but are under the control of the TVA.

From October-to-December 1940, human remains representing, at minimum, 128 individuals were removed from site 40BN25, in Benton County, TN. These human remains represent 39 females, 28 male and 61 individuals of undeterminable sex. They also represent adults, sub-adults, and infants. No known individuals were identified. The 1,478 associated funerary objects include 79 animal bones, nine antler tine fragments, three antler tools, one bannerstone, 14 bone awls, 19 bone awl fragments, five bone pin fragments, three chert drills, one chert graver, one conch shell pendant, two copper beads, one cut and polished mountain lion femur, seven pieces of debitage, one modified human femur, one metal fragment, one pebble in red ochre, one perforated copper object, one perforated pebble, one perforated shell discoidal, one perforated shell with copper, 23 projectile points, one sample of red ochre, three pieces of sediment, 1,281 shell beads, five sherds, one whetstone, one worked antler, and 11 worked bone or bone fragments.

Excavation on 40BN25 commenced after TVA had acquired the land encompassing this site on July 11, 1940. Excavations identified two strata. Stratum I was 60 centimeters thick and contained ceramics attributed to the Early Woodland period. Stratum II was 75 centimeters thick and represented a Late Archaic occupation. Stratum II was the least disturbed by plowing, construction of warehouses, and looting. No post mold patterns indicative of structures were identified. In his 2014 dissertation, Thaddeus Bissett presented three radiocarbon dates from this site. He generated a calibrated date of 2636 ±89 Before the Present (BP) from carbonized material from Stratum I. From Stratum II, he got two calibrated dates, 4489 ±88 BP and 4314 ±79 BP. Based on these radiocarbon dates and the stratigraphic distribution of projectile points, Bissett verifies that Stratum II was Late Archaic and Stratum I was an Early Woodland occupation.

Determinations Made by the Tennessee Valley Authority

Officials of the Tennessee Valley Authority have determined that:

• Pursuant to 25 U.S.C. 3001(9), the human remains described in this notice are Native American based on their presence in prehistoric archeological sites and osteological analysis.

• Pursuant to 25 U.S.C. 3001(9), the human remains described in this notice represent the physical remains of 128 individuals of Native American ancestry.

• Pursuant to 25 U.S.C. 3001(3)(A), the 1,478 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• The Treaty of October 19, 1818, indicates that the land from which the cultural items were removed is the aboriginal land of The Chickasaw Nation.

• Pursuant to 43 CFR 10.11(c)(1)(ii), the disposition of the human remains and associated funerary objects may be to The Chickasaw Nation.

Additional Requestors and Disposition

Representatives of any Federally-recognized Indian Tribe not identified in this notice that wish to request transfer of control of these human remains and associated funerary objects should submit a written request with information in support of the request to Dr. Thomas O. Maher, Tennessee Valley Authority, 400 West Summit Hill Drive, WT11C, Knoxville, TN 37902-1401, telephone (865) 632-7458, email tomaher@tva.gov, by May 21, 2020. After that date, if no additional requestors have come forward, transfer of control of the human remains and associated funerary objects to The Chickasaw Nation may proceed.

The Tennessee Valley Authority is responsible for notifying The Consulted Tribes that this notice has been published.

Dated: March 25, 2020.
Melanie O'Brien,
Manager, National NAGPRA Program.

[FR Doc. 2020-08366 Filed 4-20-20; 8:45 am]

BILLING CODE 4312-52-P